DEPARTMENT OF TRANSPORTATION

Federal Aviation Administration

Notice of Intent To Rule on Request To Release Airport Property at the King County International Airport, Seattle, WA

AGENCY: Federal Aviation Administration (FAA), DOT.

ACTION: Notice of Request to Release Airport Property.

SUMMARY: The FAA proposes to rule and invite public comment on the release of land at King County International Airport under the provisions of section 125 of the Wendell H. Ford Aviation Investment Reform Act for the 21st century (AIR 21), now 49 U.S.C. 47107(h)(2).

DATES: Comments must be received on or before February 25, 2002.

ADDRESSES: Comments on this application may be mailed or delivered to the FAA at the following address: Mr. J. Wade Bryant, Manager, Federal Aviation Administration, Northwest Mountain Region, Airports Division, Seattle Airports District Office, 1601 Lind Avenue, SW., Suite 250, Renton, Washington 98055-4056.

In addition, one copy of any comments submitted to the FAA must be mailed or delivered to Ms. Cynthia Stewart, Airport Manager, at the following address: King County International Airport, 7233 Perimeter Rd. South, Seattle, Washington, 98108.

FOR FURTHER INFORMATION CONTACT: Mr. Paul Johnson, Project Manager, Federal Aviation Administration, Northwest Mountain Region, Seattle Airports District Office, 1601 Lind Avenue, SW., Suite 250, Renton, Washington 98055-4056.

The request to release property may be reviewed, by appointment, in person at this same location.

SUPPLEMENTARY INFORMATION: The FAA invites public comment on the request to release property at the King County International Airport under the provisions of the AIR 21 (49 U.S.C. 47107(h)(2).

On January 17, 2001, the FAA determined that the request to release property at King County International Airport submitted by the airport meets the procedural requirements of the Federal Aviation Administration. The FAA may approve the request, in whole or in part, no later than March 6, 2002.

The following is brief overview of the request: King County International Airport is proposing the release of approximately .9 acres of airport property to allow the Museum of Flight a transportation corridor, which will provide off-airport access for the occasional movement of large display aircraft to a new off-airport museum building, provide for required fire access lanes and in support of a museum building expansion. All building expansion is being done off airport property. The transfer is necessary to allow improvements on the aircraft tow route by the Museum. The property is being exchanged in-kind for Museum property of a similar value. All costs associated with the exchange will be born by the Museum. The exchange is advantageous to civil aviation for several reasons. One 20-year old hangar will be replaced with a new one. A second 20-year old hangar will be relocated and reconstructed using current building codes. All existing tenants will be accommodated in equal or better facilities. Approximately 35 new general aviation tie downs will be added to King County International Airport.

Any person may inspect, by appointment, the request in person at the FAA office listed above under FOR FURTHER INFORMATION CONTACT.

In addition, any person may, upon appointment and request, inspect the application, notice and other documents germane to the application in person at King County International Airport.

Issued in Renton, Washington on January 26, 2001.
U. Wade Bryant,
Manager, Seattle Airports District Office.

[FR Doc. 02-2631 Filed 2-1-02; 8:45 am]

BILLING CODE 4910-13-P